DEPARTMENT OF DEFENSE

GENERAL SERVICES ADMINISTRATION

NATIONAL AERONAUTICS AND SPACE ADMINISTRATION

[OMB Control No. 9000-0199; Docket No. 2023-0053; Sequence No. 5]

Information Collection; Prohibition on Contracting With Entities Using Certain Telecommunications and Video Surveillance Services or Equipment

AGENCY: Department of Defense (DOD), General Services Administration (GSA), and National Aeronautics and Space Administration (NASA).

ACTION: Notice and request for comments.

SUMMARY: In accordance with the Paperwork Reduction Act of 1995, and the Office of Management and Budget (OMB) regulations, DoD, GSA, and NASA invite the public to comment on a revision concerning Prohibition on Contracting with Entities Using Certain Telecommunications and Video Surveillance Services or Equipment. DoD, GSA, and NASA invite comments on: whether the proposed collection of information is necessary for the proper performance of the functions of Federal Government acquisitions, including whether the information will have practical utility; the accuracy of the estimate of the burden of the proposed information collection; ways to enhance the quality, utility, and clarity of the information to be collected; and ways to minimize the burden of the information collection on respondents, including the use of automated collection techniques or other forms of information technology. OMB has approved this information collection for use through November 30, 2023. DoD, GSA, and NASA propose that OMB extend its approval for use for three additional years beyond the current expiration date.

DATES: DoD, GSA, and NASA will consider all comments received by August 29, 2023.

ADDRESSES: DoD, GSA, and NASA invite interested persons to submit comments on this collection through https://www.regulations.gov and follow the instructions on the site. This website provides the ability to type short comments directly into the comment field or attach a file for lengthier comments. If there are difficulties submitting comments, contact the GSA Regulatory Secretariat Division at 202-501-4755 or GSARegSec@gsa.gov.

Instructions: All items submitted must cite OMB Control No. 9000-0199, Prohibition on Contracting with Entities Using Certain Telecommunications and Video Surveillance Services or Equipment. Comments received generally will be posted without change to https://www.regulations.gov, including any personal and/or business confidential information provided. To confirm receipt of your comment(s), please check www.regulations.gov, approximately two-to-three days after submission to verify posting.

FOR FURTHER INFORMATION CONTACT: Malissa Jones, Procurement Analyst, at telephone 571-882-4687, or malissa.jones@gsa.gov.

SUPPLEMENTARY INFORMATION:

A. OMB Control Number, Title, and any Associated Form(s)

9000-0199, Prohibition on Contracting with Entities Using Certain Telecommunications and Video Surveillance Services or Equipment.

B. Need and Uses

DoD, GSA, and NASA are combining OMB Control Nos. for the Federal Acquisition Regulation (FAR) by FAR part. This consolidation is expected to improve industry's ability to easily and efficiently identify burdens associated with a given FAR part. The review of the information collections by FAR part allows improved oversight to ensure there is no redundant or unaccounted for burden placed on industry. Lastly, combining information collections in a given FAR part is also expected to reduce the administrative burden associated with processing multiple information collections.

This justification supports the revision of OMB Control No. 9000-0199 and combines it with the previously approved information collections under OMB Control No(s). 9000-0201, with the title “Prohibition on Contracting with Entities Using Certain Telecommunications and Video Surveillance Services or Equipment”. Upon approval of this consolidated information collection, OMB Control No(s). 9000-0201 will be discontinued. The burden requirements previously approved under the discontinued number(s) will be covered under OMB Control No. 9000-0199.

This clearance covers the information that offerors and contractors must submit to comply with the following FAR requirements listed in the order in which offerors and contractors provide the information:

• FAR 52.204-26, Covered Telecommunications Equipment or Services—Representation. This provision requires offerors to:

○ Review the list of excluded parties in SAM for entities excluded from receiving Federal awards for “covered telecommunications equipment or services”.

○ Represent whether it does or does not provide covered telecommunications equipment or services as a part of its offered products or services to the Government in the performance of any contract, subcontract, or other contractual instrument.

○ Represents whether it does, or does not use covered telecommunications equipment or services, or any equipment, system, or service that uses covered telecommunications equipment or services.

• FAR 52.204-24, Representation Regarding Certain Telecommunications and Video Surveillance Services or Equipment. This provision requires offerors to respond only if the offeror represented that it “does provide or use covered telecommunications equipment or services as a part of its offered products or services to the Government in the performance of any contract, subcontract, or other contractual instrument” in paragraphs (c)(1) or (c)(2) of the FAR provision at 52.204-26, or in paragraphs (v)(2)(i) or (ii) of the provision at 52.212-3.

If the offeror is required to respond to this provision, offerors are required to:

○ Review the list of excluded parties in SAM for entities excluded from receiving Federal awards for “covered telecommunications equipment or services,”

○ Represent whether it “will” or “will not” provide the covered telecommunications equipment or services to the Government in the performance of any contract, subcontract or other contractual instrument resulting from the solicitation.

If the offeror responded that it “will” in the representation in paragraph (d)(1) of this provision, the offeror must provide the following additional disclosure information found at 52.204-24(e)(1) as part of its offer:

• For covered equipment—

○ The entity that produced the covered telecommunications equipment (including entity name, unique entity identifier, Commercial and Government Entity (CAGE) code, and whether the entity was the original equipment manufacturer (OEM) or a distributor, if known);

○ A description of all covered telecommunications equipment offered (including brand; model number, such as OEM number, manufacturer part number, or wholesaler number; and item description, as applicable); and

○ An explanation of the proposed use of covered telecommunications equipment and any factors relevant to determining if such use would be permissible under the prohibition in paragraph (b)(1) of the provision at 52.204-24.

• For covered services—

○ If the service is related to item maintenance: A description of all covered telecommunications services offered (include on the item being maintained: Brand; model number, such as OEM number, manufacturer part number, or wholesaler number; and item description, as applicable); or

○ If not associated with maintenance, the Product Service Code (PSC) of the service being provided; and an explanation of the proposed use of covered telecommunications services and any factors relevant to determining if such use would be permissible under the prohibition in paragraph (b)(1) of the provision at 52.204-24.

○ Represent whether it “does” or “does not” use covered telecommunications equipment or services, or use any equipment, system, or service that uses covered telecommunications equipment or services.

If the offeror has responded “does” in the representation in paragraph (d)(2) of this provision, the offeror must provide the following additional disclosure information found at 52.204-24(e)(2):

• For covered equipment—

○ The entity that produced the covered telecommunications equipment (including entity name, unique entity identifier, CAGE code, and whether the entity was the OEM or a distributor, if known);

○ A description of all covered telecommunications equipment offered (including brand; model number, such as OEM number, manufacturer part number, or wholesaler number; and item description, as applicable); and

○ An explanation of the proposed use of covered telecommunications equipment and any factors relevant to determining if such use would be permissible under the prohibition in paragraph (b)(2) of the provision at 52.204-24.

• For covered services—

○ If the service is related to item maintenance: A description of all covered telecommunications services offered (include on the item being maintained: Brand; model number, such as OEM number, manufacturer part number, or wholesaler number; and item description, as applicable); or

○ If not associated with maintenance, the PSC of the service being provided; and an explanation of the proposed use of covered telecommunications services and any factors relevant to determining if such use would be permissible under the prohibition in paragraph (b)(2) of the provision at 52.204-24.

• FAR 52.204-25, Prohibition on Contracting for Certain Telecommunications and Video Surveillance Services or Equipment. In the event a contractor identifies covered telecommunications equipment or services used as a substantial or essential component of any system, or as critical technology as part of any system, during contract performance, or a contractor is notified of such by a subcontractor at any tier or by any other source, this clause requires contractors to:

○ Report the information in paragraph 52.204-25(d)(2) to the contracting officer, unless the contract has established other procedures for reporting the information; in the case of DoD, the contractor shall report to the website at https://dibnet.dod.mil.

○ For indefinite delivery contracts, the contractor shall report to the contracting officer for the indefinite delivery contract and the contracting officer(s) for any affected order or, in the case of DoD, identify both the indefinite delivery contract and any affected orders in the report provided at https://dibnet.dod.mil.

○ Report the following within one business day from the date of such identification or notification:

The contract number;

The order number(s), if applicable;

Supplier name;

Supplier unique entity identifier (if known);

Supplier CAGE code (if known);

Brand;

Model number (original equipment manufacturer number, manufacturer part number, or wholesaler number);

Item description;

And any readily available information about mitigation actions undertaken or recommended.

○ Report the following within 10 business days of submitting the information in paragraph(d)(2)(i) of this clause:

Any further available information about mitigation actions undertaken or recommended.

Describe efforts undertaken to prevent use or submission of covered telecommunications equipment or services, and any additional efforts that will be incorporated to prevent future use or submission of covered telecommunications equipment or services.

The information collected is used by contracting officers to identify if an offeror provides or uses any covered telecommunications equipment or services as a part of its offered products or services to the Government in the performance of any contract, subcontract, or other contractual instrument. In the event that offerors are required to disclose further information, the contracting officer uses the collected information to ensure compliance with the FAR as implemented by statute and consult with legal counsel and the program office on next steps regarding the prohibited equipment or services.

C. Annual Burden

Respondents: 902,777.

Total Annual Responses: 905,213.

Total Burden Hours: 1,839,573.

Obtaining Copies: Requesters may obtain a copy of the information collection documents from the GSA Regulatory Secretariat Division, by calling 202-501-4755 or emailing GSARegSec@gsa.gov. Please cite OMB Control No. 9000-0199, Prohibition on Contracting with Entities Using Certain Telecommunications and Video Surveillance Services or Equipment.

William Clark,
Director, Office of Governmentwide Acquisition Policy, Office of Acquisition Policy, Office of Governmentwide Policy.

[FR Doc. 2023-13916 Filed 6-29-23; 8:45 am]

BILLING CODE 6820-EP-P